NUCLEAR REGULATORY COMMISSION

Tennessee Valley Authority; Sequoyah Nuclear Plant, Unit 2

[Docket No. 50-328]

Notice of Withdrawal of Application for Amendment to Facility Operating License

The U.S. Nuclear Regulatory Commission (the Commission) has granted the request of Tennessee Valley Authority (the licensee) to withdraw its July 10, 2002, application for proposed amendment to Facility Operating License No. DPR-79 for the Sequoyah Nuclear Plant, Unit No. 2, located in Hamilton County, Tennessee.

The proposed one-time technical specification (TS) change would have revised the Sequoyah Unit 2 Limiting Condition for Operation for TS Section 3.7.4, “Essential Raw Cooling Water System,” to include provisions for maintaining operability of this system during performance of heavy load lifts associated with the Unit 1 steam generator replacement (SGR) project. The provisions were intended to ensure safe operation of Unit 2 during heavy load lift activities. In addition, compensatory measures proposed would have ensured safe shutdown capability of Unit 2 in the unlikely event a heavy load drop occurs over Essential Raw Cooling Water system piping.

The Commission had previously issued a Notice of Consideration of Issuance of Amendment published in the Federal Register on August 6, 2002 (67 FR 50960). However, by letter dated November 15, 2002, the licensee withdrew the proposed change.

For further details with respect to this action, see the application for amendment dated July 10, 2002, and the licensee's letter dated November 15, 2002, which withdrew the application for license amendment. Documents may be examined, and/or copied for a fee, at the NRC's Public Document Room (PDR), located at One White Flint North, Public File Area O1 F21, 11555 Rockville Pike, Rockville, Maryland. Publicly available records will be accessible electronically from the Agencywide Documents Access and Management Systems (ADAMS) Public Electronic Reading Room on the Internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 30th day of January 2003.
For the Nuclear Regulatory Commission.
Raj K. Anand,
Project Manager, Section 2, Project Directorate II, Division of Licensing Project Management, Office of Nuclear Reactor Regulation.

[FR Doc. 03-2711 Filed 2-4-03; 8:45 am]

BILLING CODE 7590-01-P